DEPARTMENT OF ENERGY

Federal Energy Regulatory Commission

Combined Notice of Filings #1

Take notice that the Commission received the following electric rate filings:

Docket Numbers: ER11-4062-001.

Applicants: Entergy Arkansas, Inc.

Description: Entergy Arkansas, Inc. submits tariff filing per 35: Reliant IOA Compliance Filing to be effective 9/13/2011.

Filed Date: 4/11/12.

Accession Number: 20120411-5254.

Comments Due: 5 p.m. ET 5/2/12.

Docket Numbers: ER12-273-001.

Applicants: Allegheny Energy Supply Company, LLC.

Description: Revised MBR Power Sales Tariff to be effective 10/31/2011.

Filed Date: 4/11/12.

Accession Number: 20120411-5234.

Comments Due: 5 p.m. ET 5/2/12.

Docket Numbers: ER12-1471-000.

Applicants: Canastota Windpower, LLC.

Description: Canastota Windpower, LLC Notice of Change in Status re MBR Tariff to be effective 10/20/2001.

Filed Date: 4/11/12.

Accession Number: 20120411-5001.

Comments Due: 5 p.m. ET 5/2/12.

Docket Numbers: ER12-1472-000.

Applicants: Conch Energy Trading, LLC.

Description: Conch Energy Trading LLC, FERC Electric Tariff to be effective 5/23/2012.

Filed Date: 4/11/12.

Accession Number: 20120411-5002.

Comments Due: 5 p.m. ET 5/2/12.

Docket Numbers: ER12-1473-000.

Applicants: PJM Interconnection, L.L.C.

Description: Original Service Agreement No. 3272; Queue No. W2-026 to be effective 3/13/2012.

Filed Date: 4/11/12.

Accession Number: 20120411-5066.

Comments Due: 5 p.m. ET 5/2/12.

Docket Numbers: ER12-1474-000.

Applicants: Southern California Edison Company.

Description: SGIA and Service Agreement SCE—RE Victor Phelan Solar One LLC to be effective 4/12/2012.

Filed Date: 4/11/12.

Accession Number: 20120411-5082.

Comments Due: 5 p.m. ET 5/2/12.

Docket Numbers: ER12-1475-000.

Applicants: Baltimore Gas and Electric Company.

Description: Market-Based Rate Tariff Revisions to be effective 3/12/2012.

Filed Date: 4/11/12.

Accession Number: 20120411-5120.

Comments Due: 5 p.m. ET 5/2/12.

Docket Numbers: ER12-1476-000.

Applicants: Calvert Cliffs Nuclear Power Plant, LLC.

Description: Market-Based Rate Tariff Revisions to be effective 3/12/2012.

Filed Date: 4/11/12.

Accession Number: 20120411-5121.

Comments Due: 5 p.m. ET 5/2/12.

Docket Numbers: ER12-1477-000.

Applicants: CER Generation II, LLC.

Description: Market-Based Rate Tariff Revisions to be effective 3/12/2012.

Filed Date: 4/11/12.

Accession Number: 20120411-5122.

Comments Due: 5 p.m. ET 5/2/12.

Docket Numbers: ER12-1478-000.

Applicants: CER Generation, LLC.

Description: Market-Based Rate Tariff Revisions to be effective 3/12/2012.

Filed Date: 4/11/12.

Accession Number: 20120411-5123.

Comments Due: 5 p.m. ET 5/2/12.

Docket Numbers: ER12-1479-000.

Applicants: Constellation Energy Commodities Group, Inc.

Description: Market-Based Rate Tariff Revisions to be effective 3/12/2012.

Filed Date: 4/11/12.

Accession Number: 20120411-5124.

Comments Due: 5 p.m. ET 5/2/12.

Docket Numbers: ER12-1480-000.

Applicants: Constellation Energy Commodities Group Maine, LLC.

Description: Market-Based Rate Tariff Revisions to be effective 3/12/2012 under ER12-1480 Filing Type: 30.

Filed Date: 4/11/12.

Accession Number: 20120411-5125.

Comments Due: 5 p.m. ET 5/2/12.

Docket Numbers: ER12-1481-000.

Applicants: Constellation Mystic Power, LLC.

Description: Market-Based Rate Tariff Revisions to be effective 3/12/2012.

Filed Date: 4/11/12.

Accession Number: 20120411-5126.

Comments Due: 5 p.m. ET 5/2/12.

Docket Numbers: ER12-1482-000.

Applicants: Constellation NewEnergy, Inc.

Description: Market-Based Rate Tariff Revisions to be effective 3/12/2012.

Filed Date: 4/11/12.

Accession Number: 20120411-5132.

Comments Due: 5 p.m. ET 5/2/12.

Docket Numbers: ER12-1483-000.

Applicants: Constellation Power Source Generation, Inc.

Description: Market-Based Rate Tariff Revisions to be effective 3/12/2012 under ER12-1483 Filing Type: 10.

Filed Date: 4/11/12.

Accession Number: 20120411-5136.

Comments Due: 5 p.m. ET 5/2/12.

Docket Numbers: ER12-1484-000.

Applicants: Criterion Power Partners, LLC.

Description: Market-Based Rate Tariff Revisions to be effective 3/12/2012.

Filed Date: 4/11/12.

Accession Number: 20120411-5137.

Comments Due: 5 p.m. ET 5/2/12.

Docket Numbers: ER12-1485-000.

Applicants: Handsome Lake Energy, LLC.

Description: Market-Based Rate Tariff Revisions to be effective 3/12/2012.

Filed Date: 4/11/12.

Accession Number: 20120411-5138.

Comments Due: 5 p.m. ET 5/2/12.

Docket Numbers: ER12-1486-000.

Applicants: MXenergy Electric Inc.

Description: Market-Based Rate Tariff Revisions to be effective 3/12/2012.

Filed Date: 4/11/12.

Accession Number: 20120411-5139.

Comments Due: 5 p.m. ET 5/2/12.

Docket Numbers: ER12-1487-000.

Applicants: Nine Mile Point Nuclear Station, LLC.

Description: Market-Based Rate Tariff Revisions to be effective 3/12/2012.

Filed Date: 4/11/12.

Accession Number: 20120411-5140.

Comments Due: 5 p.m. ET 5/2/12.

Docket Numbers: ER12-1488-000.

Applicants: R.E. Ginna Nuclear Power Plant, LLC.

Description: Market-Based Rate Tariff Revisions to be effective 3/12/2012.

Filed Date: 4/11/12.

Accession Number: 20120411-5142.

Comments Due: 5 p.m. ET 5/2/12.

Docket Numbers: ER12-1489-000.

Applicants: Cassia Gulch Wind Park, LLC.

Description: Market-Based Rate Tariff Revisions to be effective 3/12/2012.

Filed Date: 4/11/12.

Accession Number: 20120411-5143.

Comments Due: 5 p.m. ET 5/2/12.

Docket Numbers: ER12-1490-000.

Applicants: Niagara Mohawk Power Corporation.

Description: Amended Rate Schedule No. 69 to be effective 1/1/2012.

Filed Date: 4/11/12.

Accession Number: 20120411-5147.

Comments Due: 5 p.m. ET 5/2/12.

Docket Numbers: ER12-1491-000.

Applicants: Commonwealth Edison Company.

Description: Market-Based Rate Tariff Revisions to be effective 3/12/2012.

Filed Date: 4/11/12.

Accession Number: 20120411-5154.

Comments Due: 5 p.m. ET 5/2/12.

Docket Numbers: ER12-1492-000.

Applicants: Cow Branch Wind Power, LLC.

Description: Market-Based Rate Tariff Revisions to be effective 3/12/2012.

Filed Date: 4/11/12.

Accession Number: 20120411-5157.

Comments Due: 5 p.m. ET 5/2/12.

Docket Numbers: ER12-1493-000.

Applicants: CR Clearing, LLC.

Description: Market-Based Rate Tariff Revisions to be effective 3/12/2012.

Filed Date: 4/11/12.

Accession Number: 20120411-5158.

Comments Due: 5 p.m. ET 5/2/12.

Docket Numbers: ER12-1494-000.

Applicants: Exelon Energy Company.

Description: Market-Based Rate Tariff Revisions to be effective 3/12/2012.

Filed Date: 4/11/12.

Accession Number: 20120411-5159.

Comments Due: 5 p.m. ET 5/2/12.

Docket Numbers: ER12-1495-000.

Applicants: Exelon Framingham, LLC.

Description: Market-Based Rate Tariff Revisions to be effective 3/12/2012.

Filed Date: 4/11/12.

Accession Number: 20120411-5164.

Comments Due: 5 p.m. ET 5/2/12.

Docket Numbers: ER12-1496-000.

Applicants: Exelon Generation Company, LLC.

Description: Market-Based Rate Tariff Revisions to be effective 3/12/2012.

Filed Date: 4/11/12.

Accession Number: 20120411-5165.

Comments Due: 5 p.m. ET 5/2/12.

Docket Numbers: ER12-1497-000.

Applicants: Exelon Generation Company, LLC.

Description: Market-Based Rate Tariff Revisions to be effective 3/12/2012.

Filed Date: 4/11/12.

Accession Number: 20120411-5167.

Comments Due: 5 p.m. ET 5/2/12.

Docket Numbers: ER12-1498-000.

Applicants: Exelon New Boston, LLC.

Description: Market-Based Rate Tariff Revisions to be effective 3/12/2012.

Filed Date: 4/11/12.

Accession Number: 20120411-5173.

Comments Due: 5 p.m. ET 5/2/12.

Docket Numbers: ER12-1499-000.

Applicants: Exelon New England Power Marketing, Limited Partnership.

Description: Market-Based Rate Tariff Revisions to be effective 3/12/2012.

Filed Date: 4/11/12.

Accession Number: 20120411-5176.

Comments Due: 5 p.m. ET 5/2/12.

Docket Numbers: ER12-1500-000.

Applicants: Exelon West Medway, LLC.

Description: Market-Based Rate Tariff Revisions to be effective 3/12/2012.

Filed Date: 4/11/12.

Accession Number: 20120411-5178.

Comments Due: 5 p.m. ET 5/2/12.

Docket Numbers: ER12-1501-000.

Applicants: Exelon Wind 4, LLC.

Description: Market-Based Rate Tariff Revisions to be effective 3/12/2012.

Filed Date: 4/11/12.

Accession Number: 20120411-5184.

Comments Due: 5 p.m. ET 5/2/12.

Docket Numbers: ER12-1502-000.

Applicants: Cimarron Windpower II, LLC, Ironwood Windpower, LLC.

Description: MBR Tariff Filing to be effective 6/15/2012.

Filed Date: 4/11/12.

Accession Number: 20120411-5191.

Comments Due: 5 p.m. ET 5/2/12.

Docket Numbers: ER12-1503-000.

Applicants: Exelon Wyman, LLC.

Description: Market-Based Rate Tariff Revisions to be effective 3/12/2012.

Filed Date: 4/11/12.

Accession Number: 20120411-5197.

Comments Due: 5 p.m. ET 5/2/12.

Docket Numbers: ER12-1504-000.

Applicants: Cimarron Windpower II, LLC, Ironwood Windpower, LLC.

Description: MBR Tariff Filing to be effective 4/17/2012.

Filed Date: 4/11/12.

Accession Number: 20120411-5198.

Comments Due: 5 p.m. ET 5/2/12.

Docket Numbers: ER12-1505-000.

Applicants: Harvest Windfarm, LLC.

Description: Market-Based Rate Tariff Revisions to be effective 3/12/2012.

Filed Date: 4/11/12.

Accession Number: 20120411-5199.

Comments Due: 5 p.m. ET 5/2/12.

Docket Numbers: ER12-1506-000.

Applicants: Michigan Wind 1, LLC.

Description: Market-Based Rate Tariff Revisions to be effective 3/12/2012.

Filed Date: 4/11/12.

Accession Number: 20120411-5200.

Comments Due: 5 p.m. ET 5/2/12.

Docket Numbers: ER12-1507-000.

Applicants: PECO Energy Company.

Description: Market-Based Rate Tariff Revisions to be effective 3/12/2012.

Filed Date: 4/11/12.

Accession Number: 20120411-5207.

Comments Due: 5 p.m. ET 5/2/12.

Docket Numbers: ER12-1508-000.

Applicants: Tuana Springs Energy, LLC.

Description: Market-Based Rate Tariff Revisions to be effective 3/12/2012.

Filed Date: 4/11/12.

Accession Number: 20120411-5210.

Comments Due: 5 p.m. ET 5/2/12.

Docket Numbers: ER12-1509-000.

Applicants: Wind Capital Holdings, LLC.

Description: Market-Based Rate Tariff Revisions to be effective 3/12/2012.

Filed Date: 4/11/12.

Accession Number: 20120411-5213.

Comments Due: 5 p.m. ET 5/2/12.

Docket Numbers: ER12-1510-000.

Applicants: Michigan Wind 2, LLC.

Description: Market-Based Rate Tariff Revisions to be effective 3/12/2012.

Filed Date: 4/11/12.

Accession Number: 20120411-5216.

Comments Due: 5 p.m. ET 5/2/12.

Docket Numbers: ER12-1511-000.

Applicants: PJM Interconnection, L.L.C.

Description: RTEP clean-up filing to incorporate accepted revisions in ER12-773 & ER12-1130 to be effective 4/5/2012.

Filed Date: 4/11/12.

Accession Number: 20120411-5227.

Comments Due: 5 p.m. ET 5/2/12.

Docket Numbers: ER12-1512-000.

Applicants: Caney River Wind Project, LLC.

Description: Caney River Wind Project, LLC Notice of Change in Status re MBR Tariff to be effective 10/1/2011.

Filed Date: 4/11/12.

Accession Number: 20120411-5228.

Comments Due: 5 p.m. ET 5/2/12.

Docket Numbers: ER12-1513-000.

Applicants: EGP Stillwater Solar, LLC.

Description: EGP Stillwater Solar, LLC Notice of Change in Status re MBR Tariff to be effective 11/15/2011.

Filed Date: 4/11/12.

Accession Number: 20120411-5229.

Comments Due: 5 p.m. ET 5/2/12.

Docket Numbers: ER12-1514-000.

Applicants: Enel Stillwater, LLC.

Description: Enel Stillwater, LLC Notice of Change in Status re MBR Tariff to be effective 12/5/2008.

Filed Date: 4/11/12.

Accession Number: 20120411-5230.

Comments Due: 5 p.m. ET 5/2/12.

Docket Numbers: ER12-1515-000.

Applicants: Smoky Hills Wind Farm, LLC.

Description: Smoky Hills Wind Farm, LLC Notice of Change in Status re MBR Tariff to be effective 10/31/2007.

Filed Date: 4/11/12.

Accession Number: 20120411-5231.

Comments Due: 5 p.m. ET 5/2/12.

Docket Numbers: ER12-1516-000.

Applicants: Smoky Hills Wind Project II, LLC.

Description: Smoky Hills Wind Project II, LLC Notice of Change in Status re MBR Tariff to be effective 10/20/2008.

Filed Date: 4/11/12.

Accession Number: 20120411-5232.

Comments Due: 5 p.m. ET 5/2/12.

Docket Numbers: ER12-1517-000.

Applicants: Energia Sierra Juarez U.S., LLC, San Diego Gas & Electric Company.

Description: Joint Application of Affiliate Transaction Pursuant to Section 205 of the Federal Power Act.

Filed Date: 4/10/12.

Accession Number: 20120410-5170.

Comments Due: 5 p.m. ET 5/1/12.

Docket Numbers: ER12-1518-000.

Applicants: Entergy Arkansas, Inc.

Description: Entergy Arkansas, Inc. submits tariff filing per 35.13(a)(2)(iii: SRW Cogen IOA Compliance Filing to be effective 9/27/2011.

Filed Date: 4/11/12.

Accession Number: 20120411-5256.

Comments Due: 5 p.m. ET 5/2/12.

Take notice that the Commission received the following electric securities filings:

Docket Numbers: ES12-32-000.

Applicants: Orange & Rockland Utilities, Inc.

Description: Application of Orange and Rockland Utilities, Inc. for an order pursuant to Section 204 of the Federal Power Act.

Filed Date: 4/11/12.

Accession Number: 20120411-5177.

Comments Due: 5 p.m. ET 5/2/12.

Take notice that the Commission received the following open access transmission tariff filings:

Docket Numbers: OA09-22-004.

Applicants: Florida Power & Light Company.

Description: Annual Compliance Report Regarding Penalties for Unreserved Use of Florida Power & Light Company.

Filed Date: 4/11/12.

Accession Number: 20120411-5163.

Comments Due: 5 p.m. ET 5/2/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 12, 2012.
Nathaniel J. Davis, Sr.,
Deputy Secretary.

[FR Doc. 2012-9559 Filed 4-19-12; 8:45 am]

BILLING CODE 6717-01-P